DEPARTMENT OF COMMERCE

National Oceanic and Atmospheric Administration

[I.D. 050102E]

Caribbean Fishery Management Council; Public Meeting

AGENCY: National Marine Fisheries Service (NMFS), National Oceanic and Atmospheric Administration (NOAA), Commerce.

ACTION: Notice of Public Meetings.

SUMMARY: The Caribbean Fishery Management Council (Council) will hold meetings.

DATES: The meetings will be held on June 12-13, 2002. See SUPPLEMENTARY INFORMATION for specific dates and times.

ADDRESSES: The meetings will be held at the Windward Passage Holiday Inn, in Veterans Drive, Charlotte Amalie, St. Thomas, U.S.V.I.

FOR FURTHER INFORMATION CONTACT: Caribbean Fishery Management Council, 268 Munoz Rivera Avenue, Suite 1108, San Juan, Puerto Rico 00918-2577; telephone: (787) 766-5926.

SUPPLEMENTARY INFORMATION: The Council will convene on Wednesday, June 12, 2002, from 8:30 a.m. to 3 p.m., and on Thursday, June 13, 2002, from 9 a.m. to 12 noon, approximately. A scoping meeting period for Sustainable Fishery Act (SFA) Comprehensive Amendment will be open from 1 p.m. to 3 p.m., on June 12, 2002, to allow the general public and interested persons to provide their comments.

The Council will hold its 108th regular public meeting to discuss the items contained in the following agenda:

June 12, 2002, 8:30 a.m.—10 a.m.

Closed Session

10 a.m.—12 noon

Call to Order

Adoption of Agenda

Consideration of 106th Council Meeting Verbatim Minutes

SFA Comprehensive Amendment Presentation—Southeast Regional Office/NMFS

12 noon—1 p.m.

Lunch

1 p.m.—3 p.m.

Scoping meeting on SFA Comprehensive Amendment

June 13, 2002, 9 a.m.—12 noon

Reef Fish Fishery Management Plan

SFA Next Steps

Other Business

The meetings are open to the public, and will be conducted in English. Fishers and other interested persons are invited to attend and participate with oral or written statements regarding agenda issues.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. For more information or request for sign language interpretation and/other auxiliary aids, please contact Mr. Miguel A. Rolon, Executive Director, Caribbean Fishery Management Council, 268 Munoz Rivera Avenue, Suite 1108, San Juan, Puerto Rico 00918-2577, telephone: (787) 766-5926, at least 5 days prior to the meeting date.

Dated: May 13, 2002.
Richard W. Surdi,
Acting Director, Office of Sustainable Fisheries, National Marine Fisheries Service.

[FR Doc. 02-12603 Filed 5-17-02; 8:45 am]

BILLING CODE 3510-22-S